NUCLEAR REGULATORY COMMISSION

Notice of Public Meeting for the Partial Site Release of the Off-Shore Piping for San Onofre Generation Station, Unit 1

AGENCY: U.S. Nuclear Regulatory Commission.

ACTION: Notice of meeting.

SUMMARY: The NRC staff will hold a public meeting to discuss the proposed release for unrestricted use of the off-shore portion of the circulating water system from SONGS Unit 1, and to accept public comments on the proposed action. The proposed release is requested in accordance with NRC regulations at 10 CFR 50.83, Release of Part of a Power Reactor Facility or Site for Unrestricted Use. The public meeting will be held on June 11, 2008, at the Dana Point Marina Inn, 24800 Dana Point Harbor Drive, Dana Point, CA 92629. The meeting will convene at 6 p.m. and will continue until 8 p.m., as necessary. The meeting will include: (1) An overview of the NRC review and inspection processes; (2) a presentation of the proposed action; and (3) the opportunity for interested government agencies, organizations, and individuals to provide comments on the SONGS plan. To be considered, comments must be provided either at the transcribed public meeting or in writing. Persons may pre-register to attend or present oral comments at the meeting by contacting Mr. James Shepherd, the NRC Project Manager at 1-800-368-5642, extension 6712, or by e-mail at James.Shepherd@nrc.gov no later than June 9, 2008. Members of the public may also register to provide oral comments within 15 minutes of the start of the meeting. Individual, oral comments may be limited by the time available, depending on the number of persons who register. If special equipment or accommodations are needed to attend or present information at the public meeting, the need should be brought to Mr. Shepherd's attention no later than June 9, 2008, to provide the NRC staff adequate notice to determine whether the request can be accommodated.

FOR FURTHER INFORMATION CONTACT: Mr. James Shepherd, Reactor Decommissioning Branch, Division of Waste Management and Environmental Protection, Office of Federal and State Materials and Environmental Management Programs, U.S. Nuclear Regulatory Commission, Mail Stop T8 F05, Washington, DC 20555-0001. Mr. Shepherd may be contacted at the aforementioned telephone number or e-mail address.

Dated at Rockville, Maryland, this 29th day of May, 2008.
For the Nuclear Regulatory Commission.
Keith McConnell,
Deputy Director, Decommissioning and Uranium Recovery Licensing Directorate, Division of Waste Management and Environmental Protection, Office of Federal and State Materials and Environmental Management Programs.

[FR Doc. E8-12821 Filed 6-5-08; 8:45 am]

BILLING CODE 7590-01-P